DEPARTMENT OF LABOR

Employment and Training Administration

[TA-W-52,510]

General Binding Corporation (GBC), Booneville, MS; Notice of Termination of Investigation

Pursuant to Section 221 of the Trade Act of 1974, an investigation was initiated on August 11, 2003 in response to a worker petition which was filed by a company official on behalf of workers at General Binding Corporation (GBC), Booneville, Mississippi.

The petitioner has requested that the petition be withdrawn. Consequently, the investigation has been terminated.

Signed in Washington, DC, this 13th day of August, 2003.
Elliott S. Kushner,
Certifying Officer, Division of Trade Adjustment Assistance.

[FR Doc. 03-22268 Filed 8-29-03; 8:45 am]

BILLING CODE 4510-30-P